DEPARTMENT OF JUSTICE

Notice of Lodging of Proposed Stipulation Modifying Consent Decree Under the Clean Air Act

On May 1, 2014, the Department of Justice lodged a proposed stipulation modifying the consent decree (“Stipulation”) entered in the lawsuit entitled United States and the Oklahoma Department of Environmental Quality v. Owens-Brockway Glass Container Inc. (Civil No. 3:12-cv-02961), filed in the United States District Court for the Northern District of Ohio.

The United States and Oklahoma Department of Environmental Quality (“ODEQ”) filed this lawsuit in 2012 under the Clean Air Act. The consent decree entered in this matter requires that the defendant, Owens-Brockway Glass Container Inc. (“Owens-Brockway”), perform injunctive relief, pay a civil penalty, and perform a mitigation project in order to resolve claims that the defendant violated the Clean Air Act's Prevention of Significant Deterioration and Non-Attainment New Source Review requirements at five of its glass manufacturing plants in the United States.

The Stipulation permits Owens-Brockway to seek approval to install and operate an alternative to the nitrogen oxide (NOX) emission control technology that is currently required by the consent decree at Owens-Brockway's glass bottle manufacturing plant in Muskogee, Oklahoma. Two types of alternative NOX control technologies, “oxyfuel” and selective catalytic reduction, are permitted to be installed and operated at the Muskogee, Oklahoma facility upon written notice to the United States Environmental Protection Agency and ODEQ.

Publication of this notice opens a period for public comment on the proposed Stipulation. Comments should be addressed to the Assistant Attorney General, Environment and Natural Resources Division, and should refer to United States and the Oklahoma Department of Environmental Quality v. Owens-Brockway Glass Container Inc., D.J. Ref. No. 90-5-2-1-09678. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Stipulation may be examined and downloaded at this Justice Department Web site: http://www.usdoj.gov/enrd/Consent_Decrees.html. We will provide a paper copy of the proposed Stipulation upon written request and payment of reproduction costs. Please mail your request and payment to: Consent Decree Library, U.S. DOJ—ENRD, P.O. Box 7611, Washington, DC 20044-7611.

Please enclose a check or money order for $2.75 (25 cents per page reproduction cost) payable to the United States Treasury. For a paper copy without the exhibits and signature pages, the cost is $1.25.

Thomas P. Carroll,
Assistant Section Chief, Environmental Enforcement Section, Environment and Natural Resources Division.

[FR Doc. 2014-10413 Filed 5-6-14; 8:45 am]

BILLING CODE 4410-15-P